DEPARTMENT OF TRANSPORTATION

Office of the Secretary

Notice of Applications for Certificates of Public Convenience and Necessity and Foreign Air Carrier Permits

Notice of Applications for Certificates of Public Convenience and Necessity and Foreign Air Carrier Permits Filed Under Subpart B (formerly Subpart Q) during the Week Ending March 12, 2011. The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2011-0043.

Date Filed: March 7, 2011.

Due Date for Answers, Conforming Applications, or Motion to Modify Scope: March 28, 2011.

Description: Application of Calima Aviacion, S.L. (“Calima”) requesting exemption authority and a foreign air carrier permit to conduct charter foreign air transportation of persons, property and mail between a point or points in the European Community and the Member States of the European Union, and a point or points in the United States, to the full extent allowed under the Air Transport Agreement between the United States and the European Community and the Member States of the European Union. Specifically Calima requests authority to engage in: (a) Foreign charter air transportation of persons, property, and mail from any point or points behind any Member State of the European Community via any point or points in any Member State and via intermediate points to any point or points in the United States and beyond; (b) foreign charter air transportation of persons, property, and mail between any point or points in the United States and any point or points in any Member State of the EuropeanCommon Aviation Area; (c) foreign charter cargo air transportation between any point or points in the United States and any other point or points; and (d) charter transportation consistent with any future, additional rights that may be granted to foreign air carriers of the Member States of the European Community.

Docket Number: DOT-OST-2011-0045.

Date Filed: March 8, 2011.

Due Date for Answers, Conforming Applications, or Motion to Modify Scope: March 29, 2011.

Description: Application of Sky Regional Airlines Inc/Lignes Aeriennes Sky Regional Inc. (“Sky Regional”) requesting a foreign air carrier permit to the full extent authorized by the Air Transport Agreement between the Government of the United States of America and the Government of Canada in order to engage in: (i) Charter foreign air transportation of persons, property and mail from points behind Canada via Canada and intermediate points to a point or points in the United States and beyond, and (ii) other charter transportation. Sky Regional further requests exemption authority to the extent necessary to enable it to provide the services described above pending issuance of a foreign air carrier permit and such additional or other relief as the Department may deem necessary or appropriate.

Renee V. Wright,
Program Manager, Docket Operations, Federal Register Liaison.

[FR Doc. 2011-8697 Filed 4-11-11; 8:45 am]

BILLING CODE 4910-9X-P